DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: 2009 National Survey on Drug Use and Health—(OMB No. 0930-0110)—Revision

The National Survey on Drug Use and Health (NSDUH), formerly the National Household Survey on Drug Abuse (NHSDA) is a survey of the civilian, non-institutionalized population of the United States 12 years old and older. The data are used to determine the prevalence of use of tobacco products, alcohol, illicit substances, and illicit use of prescription drugs. The results are used by SAMHSA, ONDCP, Federal government agencies, and other organizations and researchers to establish policy, direct program activities, and better allocate resources.

In the 2009 NSDUH, one scale measuring impairment from mental health issues will be adopted. The decision to adopt either the Sheehan or the WHO-DAS is currently being evaluated in the 2008 NSDUH by using the SCID-I/NP as a follow-up interview with a subsample of respondents. Based upon a substantive review of questions in the Youth Mental Health Services Utilization module, some additions and deletions will be made to this section to more specifically depict the types of providers and service delivery sites for youth mental health services. The remaining modular components of the questionnaire will remain essentially unchanged except for minor modifications to wording.

As with all NSDUH/NHSDA surveys conducted since 1999, the sample size of the survey for 2009 will be sufficient to permit prevalence estimates for each of the fifty states and the District of Columbia. The total annual burden estimate is shown below:

| No. of responses | Responses per respondent | Average burden per response (hr.) | Total burden (hrs)
Household Screening | 190,800 | 1 | .083 | 15,836
Interview | 67,500 | 1 | 1.0 | 67,500
Clinical Follow-up Certification | 30 | 1 | 1.0 | 30
Clinical Follow-up Interview | 500 | 1 | 1.0 | 500
Screening Verification | 5,400 | 1 | 0.067 | 362
Interview Verification | 10,125 | 1 | 0.067 | 678
| 190,800 |  |  | 84,906

Written comments and recommendations concerning the proposed information collection should be sent by July 28, 2008 to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-6974.

Dated: June 20, 2008.
Elaine Parry,
Acting Director, Office of Program Services.

[FR Doc. E8-14578 Filed 6-26-08; 8:45 am]

BILLING CODE 4162-20-P